FEDERAL COMMUNICATIONS COMMISSION

47 CFR Part 73

[DA 05-1737; MB Docket No. 04-389, RM-11090]

Radio Broadcasting Services; Boyce, LA

AGENCY: Federal Communications Commission.

ACTION: Proposed rule; denial.

SUMMARY: The Audio Division has denied the request of Charles Crawford to allot Channel 222A at Boyce, Louisiana. Charles Crawford filed a petition for rule making proposing the allotment of Channel 222A at Boyce, Louisiana, as the community's second local FM transmission service. See 69 FR 61615-16, October 20, 2004. The proposal was dismissed for failure to demonstrate a continuing interest in the requested allotment.

FOR FURTHER INFORMATION CONTACT: Deborah Dupont, Media Bureau, (202) 418-2180.

SUPPLEMENTARY INFORMATION: This is a synopsis of the Commission's Report and Order, MB Docket No. 04-389, adopted June 22, 2005, and released June 24, 2005. The full text of this Commission decision is available for inspection and copying during normal business hours in the FCC Information Center, Portals II, 445 12th Street, SW., Room CY-A257, Washington, DC 20554. The complete text of this decision also may be purchased from the Commission's duplicating contractor, Best Copy and Printing, Inc., 445 12th Street, SW., Room CY-B402, Washington, DC, 20554, (800) 378-3160, or via the company's Web site, http://www.bcpiweb.com. This document is not subject to the Congressional Review Act. The Commission is, therefore, not required to send a copy of this Report and Order in a report to be sent to Congress and the Government Accountability Office pursuant to the Congressional Review Act, see U.S.C. 801(a)(1)(A), because the proposed rule was dismissed.

Federal Communications Commission.
John A. Karousos,
Assistant Chief, Audio Division, Media Bureau.

[FR Doc. 05-13466 Filed 7-12-05; 8:45 am]

BILLING CODE 6712-01-P